DEPARTMENT OF HEALTH AND HUMAN SERVICES

Administration for Children and Families

Head Start Bureau; Unsolicited Proposal on Gubernatorial Leadership for Early Care and Education

AGENCY: Head Start Bureau, Administration for Children and Families (ACF), Department of Health and Human Services (HHS).

ACTION: Award Announcement, 3 Year Unsolicited Application Project.

CFDA#: The Catalog of Federal Domestic Assistance (CFDA) number for this program is 93.600. The title is Unsolicited Proposal on Gubernatorial Leadership for Early Care and Education.

Legislative Authority: Grants to enhance collaboration efforts between Head Start and other early childhood providers are authorized by The Head Start Action (Pub. L. 05-285).

Amount of Award: $600,000.

Project Period: 11/1/05-10/31/08.

Summary and Purpose: Notice is hereby given that the Head Start Bureau will award grant funds without competition to the National Governor's Association Center for Best Practices. The grant is an unsolicited service grant award that is within legislative authorities and that proposes activities that may be lawfully supported through grant mechanisms. This application is of merit, and the project will have significant impact on State efforts to design, implement, and improve early childhood systems of care and education.

The National Governor's Association Center for Best Practices proposes to work with Governors to develop and implement new strategic early childhood plans in order to improve quality and coordination of early childhood care and education. The NGA Center will conduct an independent and confidential audit of existing early childhood efforts in four states, provide implementation recommendations to early childhood stakeholders, and publish and disseminate findings and recommendations to the broader policy community. The NGA Center has a history of work with Governors on special early childhood initiatives and has the capacity to take state coordination efforts to the highest level of policy and funding decision making. This unique approach will provide valuable information on effective strategies and improvements in quality and service delivery, yielding valuable information on early childhood investments for States and Federal programs.

Contact for Further Information: Administration for Children and Families, Head Start Bureau, 330 C Street, SW., Washington, DC 20447, Kiersten Beigel—(202) 260-4869, kbeigel@acf.hhs.gov.

Dated: October 5, 2005.
Joan Ohl,
Commissioner, Head Start Bureau.

[FR Doc. 05-20555 Filed 10-12-05; 8:45 am]

BILLING CODE 4184-01-P